SMALL BUSINESS ADMINISTRATION

[Disaster Declaration #14091 and #14092]

Tennessee Disaster Number TN-00082

AGENCY: U.S. Small Business Administration.

ACTION: Amendment 1.

SUMMARY: This is an amendment of the Presidential declaration of a major disaster for Public Assistance Only for the State of Tennessee (FEMA-4189-DR), dated 08/13/2014.

Incident: Severe storms, tornadoes, straight-line winds, and flooding.

Incident Period: 06/05/2014 through 06/10/2014.

DATES: Effective Date: 09/03/2014.

Physical Loan Application Deadline Date: 10/14/2014.

Economic Injury (EIDL) Loan Application Deadline Date: 05/13/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for private non-profit organizations in the State of Tennessee, dated 08/13/2014, is hereby amended to include the following areas as adversely affected by the disaster.

Primary Counties:

Claiborne, Gibson, Giles, Haywood, Weakley.

All other information in the original declaration remains unchanged.

(Catalog of Federal Domestic Assistance Numbers 59002 and 59008)

James E. Rivera,
Associate Administrator for Disaster Assistance.

[FR Doc. 2014-21773 Filed 9-11-14; 8:45 am]

BILLING CODE 8025-01-P